DEPARTMENT OF THE INTERIOR

National Park Service

[NPS-WASO-NAGPRA-13405; PPWOCRADN0-PCU00RP14.R50000]

Notice of Inventory Completion: Washington State Parks and Recreation Commission, Olympia, WA

AGENCY: National Park Service, Interior.

ACTION: Notice.

SUMMARY: The Washington State Parks and Recreation Commission has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Washington State Parks and Recreation Commission. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Washington State Parks and Recreation Commission at the address in this notice by August 23, 2013.

ADDRESSES: Alicia Woods, Washington State Parks and Recreation Commission, PO Box 42650, Olympia, WA 98504-2650, telephone (360) 902-0939, email Alicia.Woods@parks.wa.gov.

SUPPLEMENTARY INFORMATION: Notice is here given in accordance with the Native American Graves Protection and Repatriation Act (NAGPRA), 25 U.S.C. 3003, of the completion of an inventory of human remains under the control of the Washington State Parks and Recreation Commission, Olympia, WA. The human remains were removed from Birch Bay State Park, Whatcom County, WA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Washington State Parks and Recreation Commission professional staff in consultation with representatives of the Lummi Tribe of the Lummi Reservation. The following additional tribes were contacted but did not participate in the consultation and deferred to the Lummi Tribe of the Lummi Reservation: Nooksack Indian Tribe and Upper Skagit Indian Tribe.

History and Description of the Remains

On May 13, 1999, human remains representing, at minimum, one individual were removed from a recorded site in Whatcom County, WA. During the monitoring of an expansion of the parking lot inside Birch Bay State Park boundaries, fragments of bone were inadvertently discovered. At the time, these fragments were believed to be faunal. The fragments were subsequently delivered to Washington State Parks and Recreation Commission headquarters and stored in collections. In 2001, the fragments were reviewed by an anthropologist and were determined to be human remains and to be consistent with an extended postmortem interval, but no cultural, gender, or age specific characteristics could be determined. No known individuals were identified. No associated funerary objects are present.

The site is a known prehistoric archaeological site that consists of material from Native American permanent and seasonal villages, occupied predominantly by the Semiahmoo, Lummi, and Nooksack people until the time of European settlement in the 1870s. The age of the site is dated to a minimum of 2,000 years ago and numerous burials have been excavated from within and below a shell midden on this site. Because of the location from which the human remains were removed and the condition of the human remains, Washington State Parks and Recreation Commission staff has determined that the human remains are of Native American descent. A representative from the Lummi Tribe, in consultation, confirmed the Lummi people occupied and utilized the area of Birch Bay. Additionally, ethnographic (Jeffcot, 1945; Suttles, 1990; Tremaine, 1975) and archaeological evidence (Baldwin, 2008 and 2010; Gaston & Grabert, 1975; Grabert & Spear, 1976; Reid, 1996) supports on a relationship of shared group identity between the human remains and the Lummi Tribe of the Lummi Reservation and the Nooksack Indian Tribe.

Determinations Made by the Washington State Parks and Recreation Commission

Officials of the Washington State Parks and Recreation Commission have determined that:

• Pursuant to 25 U.S.C. 3001(9), the human remains described in this notice represent the physical remains of one individual of Native American ancestry.

• Pursuant to 25 U.S.C. 3001(2), there is a relationship of shared group identity that can be reasonably traced between the Native American human remains and the Lummi Tribe of the Lummi Reservation and the Nooksack Indian Tribe.

Additional Requestors and Disposition

Lineal descendants or representatives of any Indian tribe or Native Hawaiian organization not identified in this notice that wish to request transfer of control of these human remains should submit a written request with information in support of the request to Alicia Woods, Washington State Parks and Recreation Commission, PO Box 42650, Olympia, WA 98504-2650, telephone (360) 902-0939, email Alicia.Woods@parks.wa.gov by August 23, 2013. After that date, if no additional requestors have come forward, transfer of control of the human remains to the Lummi Tribe of the Lummi Reservation may proceed. The Nooksack Indian Tribe has deferred transfer of control to the Lummi Tribe of the Lummi Reservation.

The Washington State Parks and Recreation Commission is responsible for notifying the Lummi Tribe of the Lummi Reservation; Nooksack Indian Tribe; and the Upper Skagit Indian Tribe that this notice has been published.

Dated: June 27, 2013.
Melanie O'Brien,
Acting Manager, National NAGPRA Program.

[FR Doc. 2013-17713 Filed 7-23-13; 8:45 am]

BILLING CODE 4310-50-P